DEPARTMENT OF HEALTH AND HUMAN SERVICES

Food and Drug Administration

Science Board to the Food and Drug Administration Advisory Committee; Amendment of Notice

AGENCY: Food and Drug Administration, HHS.

ACTION: Notice.

SUMMARY: The Food and Drug Administration (FDA) is announcing an amendment to the notice of a public meeting of the Science Board to the Food and Drug Administration Advisory Committee. The meeting was announced in the Federal Register of March 23, 2001 (65 FR 16253). The amendment is being made to reflect changes in the Agenda portion of the meeting notice. The time for the open public hearing and open committee discussion has been changed. This meeting is open to the public. There are no other changes.

FOR FURTHER INFORMATION CONTACT: Susan Bond, Office of the Commissioner, Office of Science Coordination and Communication (HF-33), Food and Drug Administration, 5600 Fishers Lane, rm. 17-35, Rockville, MD 20857, 301-827-6687, or FDA Advisory Committee Information Line, 1-800-741-8138 (301-443-0572 in the Washington, DC area), code 12603. Please call the Information Line for up-to-date information on this meeting.

SUPPLEMENTARY INFORMATION: In the Federal Register of March 23, 2001 (65 FR 16253), FDA announced that a meeting of the Science Board to the Food and Drug Administration Advisory Committee would be held on April 13, 2001, and that the open public hearing would be held from 1 p.m. to 1:30 p.m. and the open committee discussion would be held from 1:30 p.m. to 4:30 p.m. On page 16253, in the second column, the Agenda portion of this meeting notice is amended to read as follows:

Agenda: Open committee discussion, 8:30 a.m. to l p.m.; open public hearing, 1 p.m. to 2 p.m.; open committee discussion, 2 p.m. to 4:30 p.m.* * *

Dated:April 2, 2001.
Linda A. Suydam,
Senior Associate Commissioner.

[FR Doc. 01-8979 Filed 4-11-01; 8:45 am]

BILLING CODE 4160-01-S